DEPARTMENT OF TRANSPORTATION

Federal Aviation Administration

14 CFR Part 39

[Docket No. FAA-2010-0377; Directorate Identifier 2009-NM-246-AD]

RIN 2120-AA64

Airworthiness Directives; The Boeing Company Model 767 Airplanes

AGENCY: Federal Aviation Administration (FAA), DOT.

ACTION: Notice of proposed rulemaking (NPRM).

SUMMARY: We propose to adopt a new airworthiness directive (AD) for certain Model 767 airplanes. This proposed AD would require doing a detailed inspection for correct main track downstop assembly, thread protrusion, and damaged and missing parts of the main track downstop assemblies of the outboard slats, and related investigative and corrective actions if necessary. This proposed AD would also require doing a detailed inspection for foreign objects debris and damage to the wall of the track housing of the outboard slats, and corrective actions if necessary. This proposed AD results from reports of broken bolts in the outboard slat main track downstop assembly. We are proposing this AD to detect and correct incorrectly installed main track downstop assemblies, which can allow the main track downstop hardware to fall into the track housing and cause a puncture in the track housing when the slat is retracted. This condition, if not corrected, could result in a fuel leak and an increased risk of fire.

DATES: We must receive comments on this proposed AD by May 24, 2010.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Berhane Alazar, Aerospace Engineer, Airframe Branch, ANM-120S, FAA, Seattle Aircraft Certification Office (ACO), 1601 Lind Avenue, SW., Renton, Washington 98057-3356; telephone (425) 917-6577; fax (425) 917-6590.

SUPPLEMENTARY INFORMATION:

Comments Invited

We invite you to send any written relevant data, views, or arguments about this proposed AD. Send your comments to an address listed under the ADDRESSES section. Include “Docket No. FAA-2010-0377; Directorate Identifier 2009-NM-246-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We have received two reports of broken bolts on the main track downstop assembly of the outboard slat. In one case, the broken bolt was found at the bottom of the track housing. The main track downstop assembly was found to have had only one of the two required spacers installed, which allowed the bolt to slide and contact the wing spar web cutout. This contact fractured the bolt and scratched the wing spar web cutout. In the second case the bolt was found fractured at the thread. The bolt, spacers, and nut were found at the bottom of the track housing, and no damage was found on the wing spar web cutout or the track housing. An incorrectly installed main track downstop assembly can allow the main track downstop hardware to fall into the track housing, which could cause a puncture in the track housing when the slat is retracted. This condition, if not corrected, could result in a fuel leak and an increased risk of fire.

Relevant Service Information

We have reviewed Boeing Special Attention Service Bulletin 767-57-0118, dated October 8, 2009. The service bulletin describes procedures for doing a detailed inspection of the main track downstop assemblies of the outboard slats number 1 through 5 and 8 through 12 for correct assembly, thread protrusion, and damaged or missing parts to make sure that the bolt, nut, and two spacers are in place and correctly installed, and doing related investigative and corrective actions if necessary. The related investigative actions include doing a detailed inspection of the bolt and spacer for corrosion and damage, and inspecting for looseness of the bolt and nut by applying torque to the nut and bolt of the main track downstop assembly. The corrective actions include:

• Installing a bolt and spacer with a new nut (including applying torque to make sure that it has been correctly installed).

• Replacing a missing, corroded, or damaged spacer or bolt, and installing a new nut.

• Tightening the existing nut.

Boeing Special Attention Service Bulletin 767-57-0118, dated October 8, 2009, also describes procedures for doing a detailed inspection for foreign objects debris and damage to the wall of the track housing of the outboard slats 1 through 5 and slats 8 through 12, and corrective actions if necessary. The corrective actions include:

• Removing foreign object debris.

• Repairing damage.

• Replacing the track housing or contacting Boeing for repair instructions and doing the repair.

FAA's Determination and Requirements of This Proposed AD

We are proposing this AD because we evaluated all relevant information and determined the unsafe condition described previously is likely to exist or develop in other products of these same type designs. This proposed AD would require accomplishing the actions specified in the service information described previously, except as discussed under “Differences Between the Proposed AD and Service Bulletin.”

Differences Between the Proposed AD and Service Bulletin

Boeing Special Attention Service Bulletin 767-57-0118, dated October 8, 2009, specifies to contact the manufacturer for instructions on how to repair certain conditions, but this proposed AD would require repairing those conditions in one of the following ways:

• Using a method that we approve; or

• Using data that meet the certification basis of the airplane, and that have been approved by the Boeing Commercial Airplanes Organization Designation Authorization (ODA) whom we have authorized to make those findings.

Costs of Compliance

We estimate that this proposed AD would affect 361 airplanes of U.S. registry. We also estimate that it would take about 8 work-hours per product to comply with this proposed AD. The average labor rate is $85 per work-hour. Required parts would cost $0 per product. Based on these figures, we estimate the cost of this proposed AD to the U.S. operators to be $245,480, or $680 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866,

2. Is not a “significant rule” under the DOT Regulatory Policies and Procedures (44 FR 11034, February 26, 1979), and

3. Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

The Boeing Company: Docket No. FAA-2010-0377; Directorate Identifier 2009-NM-246-AD.

Comments Due Date

(a) We must receive comments by May 24, 2010.

Affected ADs

(b) None.

Applicability

(c) This AD applies to The Boeing Company Model 767-200, -300, -300F, and -400ER series airplanes, certificated in any category, as identified in Boeing Special Attention Service Bulletin 767-57-0118, dated October 8, 2009.

Subject

(d) Air Transport Association (ATA) of America Code 57: Wings.

Unsafe Condition

(e) This AD results from reports of broken bolts in the main track downstop assembly of the outboard slat. The Federal Aviation Administration is issuing this AD to detect and correct incorrectly installed main track downstop assemblies, which can allow the main track downstop hardware to fall into the track housing and cause a puncture in the track housing when the slat is retracted. This condition, if not corrected, could result in a fuel leak and an increased risk of fire.

Compliance

(f) You are responsible for having the actions required by this AD performed within the compliance times specified, unless the actions have already been done.

Inspection

(g) Within 24 months after the effective date of this AD, do the actions specified in paragraphs (g)(1) and (g)(2) of this AD.

(1) Do a detailed inspection for correct assembly, thread protrusion, and damaged and missing parts of the main track downstop assemblies of outboard slats 1 through 5 and slats 8 through 12, and do all applicable related investigative and corrective actions, in accordance with Part 2 of the Accomplishment Instructions of Boeing Special Attention Service Bulletin 767-57-0118, dated October 8, 2009. Do all applicable related investigative and corrective actions before further flight.

(2) Do a detailed inspection for foreign objects debris and damage to the wall of the track housing of the outboard slats 1 through 5 and slats 8 through 12, and do all applicable corrective actions, in accordance with Part 3 of the Accomplishment Instructions of Boeing Special Attention Service Bulletin 767-57-0118, dated October 8, 2009, except as required by paragraph (h) of this AD. Do all applicable corrective actions before further flight.

Exception to the Service Bulletin

(h) If any damage is found during any inspection required by paragraph (g)(2) of this AD, and Boeing Special Attention Service Bulletin 767-57-0118, dated October 8, 2009, specifies to replace the track housing or contact Boeing for appropriate action: Before further flight, replace the track housing or repair the damage using a method approved in accordance with the procedures specified in paragraph (j) of this AD.

Reporting

(i) Submit a report of positive findings of the inspections required by paragraph (g) of this AD to the Manager, Seattle Aircraft Certification Office (ACO), at the applicable time specified in paragraph (i)(1) or (i)(2) of this AD. The report must include the inspection results, a description of any discrepancies found, the airplane registry, variable or line number, and the number of landings and flight hours on the airplane. Under the provisions of the Paperwork Reduction Act (44 U.S.C. 3501 et seq.), the Office of Management and Budget (OMB) has approved the information collection requirements contained in this AD and has assigned OMB Control Number 2120 0056.

(1) If the inspection was done on or after the effective date of this AD: Submit the report within 30 days after the inspection.

(2) If the inspection was done before the effective date of this AD: Submit the report within 30 days after the effective date of this AD.

Alternative Methods of Compliance (AMOCs)

(j)(1) The Manager, Seattle ACO, FAA, has the authority to approve AMOCs for this AD, if requested using the procedures found in 14 CFR 39.19. Send information to ATTN: Berhane Alazar, Aerospace Engineer, Airframe Branch, ANM-120S, FAA, Seattle Aircraft Certification Office (ACO), 1601 Lind Avenue, SW., Renton, Washington 98057-3356; telephone (425) 917-6577; fax (425) 917-6590. Information may be e-mailed to: 9-ANM-Seattle-ACO-AMOC-Requests@faa.gov.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

(3) An AMOC that provides an acceptable level of safety may be used for any repair required by this AD if it is approved by the Boeing Commercial Airplanes Organization Designation Authorization (ODA) that has been authorized by the Manager, Seattle ACO to make those findings. For a repair method to be approved, the repair must meet the certification basis of the airplane, and the approval must specifically refer to this AD.

Issued in Renton, Washington, on April 1, 2010.
Ali Bahrami,
Manager, Transport Airplane Directorate, Aircraft Certification Service.

[FR Doc. 2010-7945 Filed 4-7-10; 8:45 am]

BILLING CODE 4910-13-P